DEPARTMENT OF HOMELAND SECURITY

U.S. Customs and Border Protection

Accreditation and Approval of King Inspection and Testing, Inc. (Carson, CA), as a Commercial Gauger and Laboratory

AGENCY: U.S. Customs and Border Protection, Department of Homeland Security.

ACTION: Notice of accreditation and approval of King Inspection and Testing, Inc. (Carson, CA), as a commercial gauger and laboratory.

SUMMARY: Notice is hereby given, pursuant to CBP regulations, that King Inspection and Testing, Inc. (Carson, CA), has been approved to gauge petroleum and certain petroleum products and accredited to test petroleum and certain petroleum products for customs purposes for the next three years as of June 27, 2025.

DATES: King Inspection and Testing, Inc. (Carson, CA), was approved and accredited as a commercial gauger and laboratory as of June 27, 2025. The next triennial inspection date will be scheduled for June 2028.

FOR FURTHER INFORMATION CONTACT: Dr. Laura Granell-Ortiz, Laboratories and Scientific Services, U.S. Customs and Border Protection, 1300 Pennsylvania Avenue NW, Suite 1501-A North, Washington, DC 20229, tel. 202-344-1060.

SUPPLEMENTARY INFORMATION: Notice is hereby given pursuant to 19 CFR 151.12 and 19 CFR 151.13, that King Inspection and Testing, Inc., 1300 E 223rd St., #410, Carson, CA 90745, has been approved to gauge petroleum and certain petroleum products and accredited to test petroleum and certain petroleum products for customs purposes, in accordance with the provisions of 19 CFR 151.12 and 19 CFR 151.13.

King Inspection and Testing, Inc. (Carson, CA), is approved for the following gauging procedures for petroleum and certain petroleum products from the American Petroleum Institute (API):

API Chapters | Title
3 | Tank Gauging.
7 | Temperature Determination.
8 | Sampling.
12 | Calculations of Petroleum Quantities.
17 | Marine Measurement.

King Inspection and Testing, Inc. (Carson, CA), is accredited for the following laboratory analysis procedures and methods for petroleum and certain petroleum products set forth by the U.S. Customs and Border Protection Laboratory Methods (CBPL) and American Society for Testing and Materials (ASTM):

CBPL No. | ASTM | Title
27-02 | D1298 | Standard Test Method for Density, Relative Density, or API Gravity of Crude Petroleum and Liquid Petroleum Products by Hydrometer Method.
27-08 | D86 | Standard Test Method for Distillation of Petroleum Products at Atmospheric Pressure.
N/A | D5972 | Standard Test Method for Freezing Point of Aviation Fuels (Automatic Phase Transition Method).

Anyone wishing to employ this entity to conduct laboratory analyses and gauger services should request and receive written assurances from the entity that it is accredited or approved by the U.S. Customs and Border Protection to conduct the specific test or gauger service requested. Alternatively, inquiries regarding the specific test or gauger service this entity is accredited or approved to perform may be directed to the U.S. Customs and Border Protection by calling (202) 344-1060. The inquiry may also be sent to CBPGaugersLabs@cbp.dhs.gov. Please reference the website listed below for a complete listing of CBP approved gaugers and accredited laboratories. http://www.cbp.gov/about/labs-scientific/commercial-gaugers-and-laboratories.

Patricia A. Coleman,
Deputy Assistant Commissioner, Laboratories and Scientific Services.

[FR Doc. 2025-24086 Filed 12-30-25; 8:45 am]

BILLING CODE 9111-14-P